DEPARTMENT OF HEALTH AND HUMAN SERVICES

National Institutes of Health

National Institute of Environmental Health Sciences; Amended Notice of Meeting

Notice is hereby given of a change in the meeting of the National Institute of Environmental Health Sciences Special Emphasis Panel, March 15, 2007, 7 p.m. to March 16, 2007, 6 p.m., The Radisson Governor's Inn, I-40 at Davis Drive, Exit 280, Research Triangle Park, NC 27709 which was published in the Federal Register on February 13, 2007, fr13fe07-60.

The meeting will be held 8 a.m. to 5 p.m. on both days. The meeting is closed to the public.

Dated: March 1, 2001.
Anna Snouffer,
Acting Director, Office of Federal Advisory Committee Policy.

[FR Doc. 07-1088 Filed 3-8-07; 8:45 am]

BILLING CODE 4140-07-M